DEPARTMENT OF ENERGY

Federal Energy Regulatory Commission

Combined Notice of Filings #1

June 2, 2009.

Take notice that the Commission received the following exempt wholesale generator filings:

Docket Numbers: EG09-47-000.

Applicants: Meadow Lake Wind Farm LLC.

Description: Notice of Self Certification of Exempt Wholesale Generator Status of Meadow Lake Wind Farm LLC.

Filed Date: 05/28/2009.

Accession Number: 20090528-5111.

Comment Date: 5 p.m. Eastern Time on Thursday, June 18, 2009.

Docket Numbers: EG09-48-000.

Applicants: Meadow Lake Wind Farm II LLC.

Description: Notice of Self Certification of Exempt Wholesale Generator Status of Meadow Lake Wind Farm II LLC.

Filed Date: 05/28/2009.

Accession Number: 20090528-5117.

Comment Date: 5 p.m. Eastern Time on Thursday, June 18, 2009.

Take notice that the Commission received the following electric rate filings:

Docket Numbers: ER99-3151-012.

Applicants: PSEG Energy Resources & Trade LLC.

Description: PSEG Energy Resources & Trade, LLC et al. submits Fourth Revised Sheet 3 to FERC Electric Tariff, Original Volume 1 in response to the FERC's 5/7/09 letter order.

Filed Date: 05/28/2009.

Accession Number: 20090601-0095.

Comment Date: 5 p.m. Eastern Time on Thursday, June 18, 2009.

Docket Numbers: ER01-3001-023.

Applicants: New York Independent System Operator, Inc.

Description: New York Independent System Operator, Inc.'s Summer Semi-Annual Reports.

Filed Date: 06/01/2009.

Accession Number: 20090601-5245.

Comment Date: 5 p.m. Eastern Time on Monday, June 22, 2009.

Docket Numbers: ER07-195-012.

Applicants: Locust Ridge Wind Farm, LLC.

Description: Letter Notification of a Correction to Notice of Change in Status Submitted on December 5, 2008 by Locust Ridge Wind Farm, LLC.

Filed Date: 06/02/2009.

Accession Number: 20090602-5045.

Comment Date: 5 p.m. Eastern Time on Tuesday, June 23, 2009.

Docket Numbers: ER07-771-003.

Applicants: E.ON U.S. LLC.

Description: Revised True-Up Filing of E.ON U.S. LLC.

Filed Date: 06/02/2009.

Accession Number: 20090602-5082.

Comment Date: 5 p.m. Eastern Time on Tuesday, June 23, 2009.

Docket Numbers: ER08-314-002.

Applicants: Bicent (California) Malburg LLC.

Description: Bicent (California) Malburg, LLC submits First Revised Sheet 1 et al. to FERC Electric Tariff, Original Volume 1.

Filed Date: 05/28/2009.

Accession Number: 20090601-0081.

Comment Date: 5 p.m. Eastern Time on Thursday, June 18, 2009.

Docket Numbers: ER08-1206-003; ER09-342-002.

Applicants: Southwest Power Pool, Inc.

Description: Southwest Power Pool, Inc submits an executed Large Generator Interconnection Agreement for Network Integration Transmission Service etc.

Filed Date: 05/28/2009.

Accession Number: 20090528-0159.

Comment Date: 5 p.m. Eastern Time on Thursday, June 18, 2009.

Docket Numbers: ER08-1574-004.

Applicants: ORNI 18, LLC.

Description: Notice of Non-Material Change in Status of ORNI 18, LLC.

Filed Date: 05/29/2009.

Accession Number: 20090529-5193.

Comment Date: 5 p.m. Eastern Time on Friday, June 19, 2009.

Docket Numbers: ER09-748-000.

Applicants: Southwest Power Pool, Inc.

Description: Southwest Power Pool, Inc submits response to the FERC's 4/24/09 letter requesting additional information concerning revisions to its Open Access Transmission Tariff filing submitted on 2/24/09.

Filed Date: 05/26/2009.

Accession Number: 20090529-0005.

Comment Date: 5 p.m. Eastern Time on Tuesday, June 16, 2009.

Docket Numbers: ER09-951-001.

Applicants: Xcel Energy Services Inc.

Description: Public Service Company of Colorado submits proposed revisions to the Joint OATT to modify the Tariff provisions submitted in the 4/2/09 filing to reflect the changes agreed to with the affected PSCo customers.

Filed Date: 05/29/2009.

Accession Number: 20090601-0099.

Comment Date: 5 p.m. Eastern Time on Friday, June 19, 2009.

Docket Numbers: ER09-1084-001.

Applicants: Hermiston Power, LLC.

Description: Hermiston Power, LLC submits amended tariff sheet to correct typographical error inadvertently included in its 5/1/09 filing under ER09-1084.

Filed Date: 05/29/2009.

Accession Number: 20090601-0100.

Comment Date: 5 p.m. Eastern Time on Friday, June 19, 2009.

Docket Numbers: ER09-1090-001.

Applicants: Twin Cities Energy, LLC.

Description: Twin Cities Energy, LLC submits Sub. First Revised Sheet 1 with the cities revised to conform to Order 697-A.

Filed Date: 05/27/2009.

Accession Number: 20090528-0157.

Comment Date: 5 p.m. Eastern Time on Wednesday, June 17, 2009.

Docket Numbers: ER09-1091-001.

Applicants: Twin Cites Power LLC.

Description: TCP Cities Power, LLC submits Sub. Original Sheet 2 with the cities revised to conform to Order 697-A.

Filed Date: 05/27/2009.

Accession Number: 20090528-0156.

Comment Date: 5 p.m. Eastern Time on Wednesday, June 17, 2009.

Docket Numbers: ER09-1099-001.

Applicants: Empire Generating Co, LLC.

Description: Empire Generating Co, LLC submits clean and redlined versions of its Tariff to clarify that it is a Category 2 Seller.

Filed Date: 05/27/2009.

Accession Number: 20090528-0158.

Comment Date: 5 p.m. Eastern Time on Wednesday, June 17, 2009.

Docket Numbers: ER09-1193-000.

Applicants: Palmco Power CT, LLC.

Description: Palmco Power CT, LLC submits an amendment for the petition for acceptance of FERC Electric Tariff, Original Volume 1.

Filed Date: 05/27/2009.

Accession Number: 20090528-0064.

Comment Date: 5 p.m. Eastern Time on Wednesday, June 17, 2009.

Docket Numbers: ER09-1202-000.

Applicants: Southwest Power Pool, Inc.

Description: Southwest Power Pool, Inc submits an executed Large Generator Interconnection Agreement etc.

Filed Date: 05/27/2009.

Accession Number: 20090528-0155.

Comment Date: 5 p.m. Eastern Time on Wednesday, June 17, 2009.

Docket Numbers: ER09-1203-000.

Applicants: Cheyenne Light Fuel & Power Company.

Description: Cheyenne Light, Fuel and Power Company submits its proposed Electric Rate Schedule FERC 4 under which CLFP will recover its costs of supplying Reactive Power and Voltage Control Services etc.

Filed Date: 05/27/2009.

Accession Number: 20090528-0154

Comment Date: 5 p.m. Eastern Time on Wednesday, June 17, 2009.

Docket Numbers: ER09-1204-000.

Applicants: New York Independent System Operator, Inc.

Description: New York Independent System Operator, Inc submits notification on tariff implementation error and request for limited tariff waiver.

Filed Date: 05/27/2009.

Accession Number: 20090528-0153.

Comment Date: 5 p.m. Eastern Time on Wednesday, June 17, 2009.

Docket Numbers: ER09-1205-000.

Applicants: Quntum Energy LLC.

Description: Quntum Energy LLC submits notice of cancellation.

Filed Date: 05/27/2009.

Accession Number: 20090528-0152.

Comment Date: 5 p.m. Eastern Time on Wednesday, June 17, 2009.

Docket Numbers: ER09-1207-000.

Applicants: P.H. Glatfelter Company.

Description: P.H. Glatfelter Co submits a Petition for Market-Based Rate Tariff, Waivers and Blanket Approvals under ER09-1207.

Filed Date: 05/29/2009.

Accession Number: 20090601-0216.

Comment Date: 5 p.m. Eastern Time on Friday, June 19, 2009.

Docket Numbers: ER09-1208-000.

Applicants: Wisconsin Public Service Corporation.

Description: Wisconsin Public Service Corporation submits a revised Section 6 as set forth in Sheet 7 of its Rate Schedule 74, which is WPSC's Long-Term Power Sale and Purchase Agreement etc.

Filed Date: 05/28/2009.

Accession Number: 20090529-0099.

Comment Date: 5 p.m. Eastern Time on Thursday, June 18, 2009.

Docket Numbers: ER09-1209-000.

Applicants: San Diego Gas & Electric Company.

Description: San Diego Gas & Electric Co's annual filing of revised costs and accurals for post-employment benefits other than pensions.

Filed Date: 05/28/2009.

Accession Number: 20090529-0103.

Comment Date: 5 p.m. Eastern Time on Thursday, June 18, 2009.

Docket Numbers: ER09-1210-000.

Applicants: Wells Fargo Commodities, LLC.

Description: Wells Fargo Commodities, LLC submits Original Sheet 1 et al. to FERC Electric Tariff, Original Volume 1.

Filed Date: 05/28/2009.

Accession Number: 20090601-0082.

Comment Date: 5 p.m. Eastern Time on Thursday, June 18, 2009.

Docket Numbers: ER09-1211-000.

Applicants: Wisconsin Public Service Corporation.

Description: Wisconsin Public Service Corporation submits FERC Electric Tariff, First Revised Volume 2 Service Agreement 19.

Filed Date: 05/28/2009.

Accession Number: 20090601-0078.

Comment Date: 5 p.m. Eastern Time on Thursday, June 18, 2009.

Docket Numbers: ER09-1212-000.

Applicants: Southwest Power Pool Inc.

Description: Southwest Power Pool, Inc submits an executed Large Generator Interconnection Agreement with Southwestern Public Service Co.

Filed Date: 05/29/2009.

Accession Number: 20090601-0022.

Comment Date: 5 p.m. Eastern Time on Friday, June 19, 2009.

Docket Numbers: ER09-1213-000.

Applicants: Southwest Power Pool, Inc.

Description: Southwest Power Pool, Inc submits an executed Meter Agent Services Agreement between Southwestern Electric Power Co as the market participant and Southwestern Public Service Co etc.

Filed Date: 05/28/2009.

Accession Number: 20090601-0087.

Comment Date: 5 p.m. Eastern Time on Thursday, June 18, 2009.

Docket Numbers: ER09-1215-000.

Applicants: PacifiCorp.

Description: PacifiCorp submits Original Sheet 1 et al. to FERC Electric Tariff 7R11 Service Agreement 544.

Filed Date: 05/28/2009.

Accession Number: 20090601-0085.

Comment Date: 5 p.m. Eastern Time on Thursday, June 18, 2009.

Docket Numbers: ER09-1217-000.

Applicants: Argo Navis Fundamental Power Fund, LP.

Description: Argo Navis Fundamental Power Fund, LP submits First Revised Sheet 1 to FERC Electric Tariff, Original Volume 1.

Filed Date: 05/29/2009.

Accession Number: 20090601-0077.

Comment Date: 5 p.m. Eastern Time on Friday, June 19, 2009.

Docket Numbers: ER09-1218-000.

Applicants: Carolina Power & Light Company.

Description: Progress Energy Carolinas, Inc submits revisions to its cost of service formula rate for network integration service and point to point service under their Open Access transmission Tariff.

Filed Date: 05/29/2009.

Accession Number: 20090601-0088.

Comment Date: 5 p.m. Eastern Time on Friday, June 19, 2009.

Docket Numbers: ER09-1219-000.

Applicants: Southwest Power Pool, Inc.

Description: Southwest Power Pool, Inc submits an executed Large Generator Interconnection Agreement with Oklahoma Gas and Electric Co et al.

Filed Date: 05/29/2009.

Accession Number: 20090601-0067.

Comment Date: 5 p.m. Eastern Time on Friday, June 19, 2009.

Docket Numbers: ER09-1220-000.

Applicants: Midwest Independent Transmission System Operator, Inc.

Description: Midwest ISO submits proposed revisions to its Open Access Transmission, Energy and Operating Reserve Markets Tariff, to revise the Attachment L Credit Policy etc, to be effective 7/28/09.

Filed Date: 05/29/2009.

Accession Number: 20090601-0089.

Comment Date: 5 p.m. Eastern Time on Friday, June 19, 2009.

Docket Numbers: ER09-1221-000.

Applicants: PJM Interconnection L.L.C.

Description: PJM Interconnection, LLC submits an executed Interconnection Service Agreement with Camden Plant Holding, LLC et al.

Filed Date: 05/29/2009.

Accession Number: 20090601-0068.

Comment Date: 5 p.m. Eastern Time on Friday, June 19, 2009.

Docket Numbers: ER09-1222-000.

Applicants: New England Power Pool.

Description: The New England Power Pool submits Sheet 66 Second Restated Agreement et al.

Filed Date: 05/29/2009.

Accession Number: 20090601-0090.

Comment Date: 5 p.m. Eastern Time on Friday, June 19, 2009.

Docket Numbers: ER09-1223-000.

Applicants: Southwest Power Pool, Inc.

Description: Southwest Power Pool, Inc submits an executed Service Agreement for Network Integration Transmission Service with Kansas City Power & Light Co etc.

Filed Date: 05/29/2009.

Accession Number: 20090601-0069.

Comment Date: 5 p.m. Eastern Time on Friday, June 19, 2009.

Docket Numbers: ER09-1224-000.

Applicants: Entergy Operating Companies.

Description: Entergy Operating Companies submits rates to implement the decision of the Commission as contained in Opinion 480 and 480-A.

Filed Date: 05/29/2009.

Accession Number: 20090601-0097.

Comment Date: 5 p.m. Eastern Time on Friday, June 19, 2009.

Docket Numbers: ER09-1225-000.

Applicants: Potomac-Appalachian Transmission Highline, LLC.

Description: Potomac-Appalachian Transmission Highline, LLC submits revised tariff sheets to correct certain line references under the PATH formula rate to FERC Form No 1.

Filed Date: 05/29/2009.

Accession Number: 20090601-0103.

Comment Date: 5 p.m. Eastern Time on Friday, June 19, 2009.

Docket Numbers: ER09-1226-000.

Applicants: Mohawk River Funding IV, LLC.

Description: Mohawk River Funding IV, LLC submits notice of cancellation to inform the Commission that it is proposing to cancel its FERC Electric Tariff, Second Revised Rate Schedule FERC No 1.

Filed Date: 05/29/2009.

Accession Number: 20090601-0102.

Comment Date: 5 p.m. Eastern Time on Friday, June 19, 2009.

Docket Numbers: ER09-1227-000.

Applicants: ISO New England Inc.

Description: ISO New England Inc et al. submit revised tariff sheets and ISOs supporting testimony of Shannon Hann.

Filed Date: 05/29/2009.

Accession Number: 20090601-0101.

Comment Date: 5 p.m. Eastern Time on Friday, June 19, 2009.

Docket Numbers: ER09-1228-000.

Applicants: Florida Power Corporation.

Description: Florida Power Corp submits two sets of revisions to its cost-of-service formula rate for network integration service and point-to-point service.

Filed Date: 05/29/2009.

Accession Number: 20090601-0084.

Comment Date: 5 p.m. Eastern Time on Friday, June 19, 2009.

Docket Numbers: ER09-1230-000.

Applicants: Southwest Power Pool, Inc.

Description: Southwest Power Pool, Inc submits an executed service agreement for Firm Point-to-Point Transmission service with Kansas City Power & Light Co.

Filed Date: 05/29/2009.

Accession Number: 20090602-0006.

Comment Date: 5 p.m. Eastern Time on Friday, June 19, 2009.

Docket Numbers: ER09-1231-000.

Applicants: Southwest Power Pool, Inc.

Description: Southwest Power Pool submits Original Service Agreement 1797 to FERC Electric Tariff, 5R1.

Filed Date: 05/29/2009.

Accession Number: 20090602-0003.

Comment Date: 5 p.m. Eastern Time on Friday, June 19, 2009.

Docket Numbers: ER09-1232-000.

Applicants: Holland Energy, LLC.

Description: Holland Energy, LLC submits notice cancelling their FERC Electric Tariff, Original Volume 1.

Filed Date: 05/29/2009.

Accession Number: 20090602-0001.

Comment Date: 5 p.m. Eastern Time on Friday, June 19, 2009.

Docket Numbers: ER09-1233-000.

Applicants: Consolidated Edison Company of New York.

Description: Consolidated Edison Company of New York, Inc submits an amendment to their Delivery Service Rate Schedule 96.

Filed Date: 05/29/2009.

Accession Number: 20090602-0004.

Comment Date: 5 p.m. Eastern Time on Friday, June 19, 2009.

Docket Numbers: ER09-1234-000.

Applicants: Southwest Power Pool, Inc.

Description: Southwest Power Pool submits Original Service Agreement 1816 to FERC Electric Tariff, 5R1.

Filed Date: 06/01/2009.

Accession Number: 20090602-0005.

Comment Date: 5 p.m. Eastern Time on Monday, June 22, 2009.

Docket Numbers: ER09-1235-000.

Applicants: Niagara Mohawk Power Corporation.

Description: National Grid submits Original Sheet 1 to FERC Electric Tariff, Original Volume 1, Rate Schedule FERC No. 317 to be effective 7/29/09.

Filed Date: 05/29/2009.

Accession Number: 20090602-0012.

Comment Date: 5 p.m. Eastern Time on Friday, June 19, 2009.

Docket Numbers: ER09-1236-000.

Applicants: Southwest Power Pool, Inc.

Description: Southwest Power Pool submits Original Service Agreement 1812 to FERC Electric Tariff, 5R1.

Filed Date: 05/29/2009.

Accession Number: 20090602-0008.

Comment Date: 5 p.m. Eastern Time on Friday, June 19, 2009.

Docket Numbers: ER09-1237-000.

Applicants: New York Independent System Operator, Inc.

Description: Area Rapid Transit District etc under ER09-1241. New York Independent System Operator, Inc submits proposed revisions to its Market Administration and Control Area Services Tariff.

Filed Date: 06/01/2009.

Accession Number: 20090602-0010.

Comment Date: 5 p.m. Eastern Time on Monday, June 22, 2009.

Docket Numbers: ER09-1238-000.

Applicants: Southwest Power Pool, Inc.

Description: Southwest Power Pool Inc submits an executed service agreement for Firm Point-To-Point Transmission Service between SPP as Transmission Provider and Westar Energy, Inc as Transmission Customer.

Filed Date: 06/01/2009.

Accession Number: 20090602-0009.

Comment Date: 5 p.m. Eastern Time on Monday, June 22, 2009.

Docket Numbers: ER09-1239-000.

Applicants: Midwest Independent Transmission System Operator, Inc.

Description: Midwest Independent Transmission System Operator, Inc submits Notice of Termination and Consent to Termination of the Large Generator Interconnection Agreement among Wisconsin Power and Light Company et al.

Filed Date: 06/01/2009.

Accession Number: 20090602-0002.

Comment Date: 5 p.m. Eastern Time on Monday, June 22, 2009.

Docket Numbers: ER09-1240-000.

Applicants: Midwest Independent Transmission System Operator, Inc.

Description: Midwest Independent Transmission System Operator, Inc submits Notice of Termination and Consent to Termination of the Large Generator Interconnection Agreement among Wisconsin Power and Light Company et al.

Filed Date: 06/01/2009.

Accession Number: 20090602-0007.

Comment Date: 5 p.m. Eastern Time on Monday, June 22, 2009.

Docket Numbers: ER09-1241-000.

Applicants: Pacific Gas and Electric Company.

Description: Pacific Gas and Electric Company submits executed Modifications to Service Agreement 42 for Network Integration Transmission Service between PG&E and the San Francisco Bay Area Rapid Transit District etc.

Filed Date: 06/01/2009.

Accession Number: 20090602-0011.

Comment Date: 5 p.m. Eastern Time on Monday, June 22, 2009.

Take notice that the Commission received the following electric securities filings:

Docket Numbers: ES09-36-000.

Applicants: Upper Peninsula Power Company.

Description: Application of Upper Peninsula Power Company for Renewed Authorization to Issue Short-Term Debt.

Filed Date: 05/29/2009.

Accession Number: 20090529-5037.

Comment Date: 5 p.m. Eastern Time on Friday, June 19, 2009.

Take notice that the Commission received the following open access transmission tariff filings:

Docket Numbers: OA08-18-001.

Applicants: Aquila, Inc.

Description: Supplement to Attachment L Compliance Filing of KCP&L Greater Missouri Operations Company.

Filed Date: 06/01/2009.

Accession Number: 20090601-5247.

Comment Date: 5 p.m. Eastern Time on Monday, June 22, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-13389 Filed 6-8-09; 8:45 am]

BILLING CODE 6717-01-P